DEPARTMENT OF ENERGY

Bonneville Power Administration

Memorandum of Agreement With the Kalispel Tribe on Columbia Basin Fish Accords

AGENCY: Bonneville Power Administration (BPA), Department of Energy (DOE).

ACTION: Notice of availability of Administrator's Record of Decision (ROD).

Memorandum of Agreement With Kalispel Tribe

SUMMARY: This notice announces the availability of the BPA's ROD for entering into an Memorandum of Agreement (MOA) with the Kalispel Tribe for implementing fish and wildlife projects in and around Lake Pend Oreille and the Pend Oreille River in Pend Orielle County, Washington and Bonner Counties, Idaho. BPA has decided to enter into the MOA to pursue mutual goals with the Kalispel Tribe of protecting and recovering fish and wildlife affected by the Federal Columbia River Power System in the area. This ROD is tiered to the BPA's Fish and Wildlife Implementation Program Environmental Impact Statement (DOE/EIS-0312, April 2003) and its ROD (October 31, 2003).

ADDRESSES: Copies of the ROD may be obtained by calling BPA's toll-free document request line, 1-800-622-4520. The ROD is also available on our Web site, www.efw.bpa.gov.

FOR FURTHER INFORMATION CONTACT: Mickey Carter, Bonneville Power Administration—KEC-4, P.O. Box 3621, Portland, Oregon, 97208-3621; toll-free telephone number 1-800-622-4519; fax number 503-230-5699; or email macarter@bpa.gov.

Issued in Portland, Oregon, on July 17, 2012.
William K. Drummond,
Acting Administrator and Chief Executive Officer.

[FR Doc. 2012-18285 Filed 7-25-12; 8:45 am]

BILLING CODE 6450-01-P